DEPARTMENT OF AGRICULTURE

Deschutes Provincial Advisory Committee (DPAC)

AGENCY: Forest Service.

ACTION: Notice of meeting.

SUMMARY: The Deschutes Provincial Advisory Committee will meet on February 17, 2005 starting at 9 a.m. at the Mid-Oregon Federal Credit Union Conference Room on 1386 NE Cushing (near the corner of 27th and Neff), Bend, Oregon. Agenda items will include an update of litigation, a briefing on the new planning rule, subbasin planning, Upper Deschutes Resource Management Plan, rechartering, Mt. Hood NF working group charter, Northwest Forest Plan monitoring, and an update of the B and B project. The remainder of the day will include info sharing and a Public Forum from 12:30 p.m. till 1 p.m. All Deschutes Province Advisory Committee Meetings are open to the public.

FOR FURTHER INFORMATION CONTACT: Chris Mickle, Province Liaison, Deschutes NF, Crescent RD, PO Box 208, Crescent, OR 97754, Phone (541) 433-3216.

Leslie A.C. Weldon,
Deschutes National Forest Supervisor, Designated Forest Official.

[FR Doc. 05-2037 Filed 2-1-05; 8:45 am]

BILLING CODE 3410-11-M